DEPARTMENT OF THE INTERIOR

Fish and Wildlife Service

Aquatic Nuisance Species Task Force Mitten Crab Control Committee Meeting

AGENCY: Fish and Wildlife Service, Interior.

ACTION: Notice of meeting.

SUMMARY: This notice announces a meeting of the Aquatic Nuisance Species (ANS) Task Force Mitten Crab Control Committee. The meeting topics are identified in the SUPPLEMENTARY INFORMATION.

DATES: The Mitten Crab Control Committee will meet from 9 a.m. to 4:30 p.m., Tuesday, March 6, 2001.

ADDRESSES: The Mitten Crab Control Committee Meeting will be held in the Pavilion Room at the Radisson Hotel, 500 Leisure Lane, Sacramento, California.

FOR FURTHER INFORMATION CONTACT: Sharon Gross, Executive Secretary, Aquatic Nuisance Species Task Force, at 703-358-2308 or by e-mail at sharon_gross@fws.gov or Kim Webb, Mitten Crab Control Committee Chair, at 209-946-6400.

SUPPLEMENTARY INFORMATION: Pursuant to section 10(a)(2) of the Federal Advisory Committee Act (5 U.S.C. App. I), this notice announces a meeting of the Aquatic Nuisance Specifies Task Force Mitten Crab Control Committee. The ANS Task Force was established by the Nonindigenous Aquatic Nuisance Prevention and Control Act of 1990.

Topics to be covered during the Mitten Crab Control Committee meeting include: a review of the life history of the mitten crab, a description of the California invasion, a review of the draft management plan, an update of the current status, and a discussion of Committee actions to further develop a comprehensive management plan.

Minutes of the meeting will be maintained by the Executive Secretary, Aquatic Nuisance Species Task Force, Suite 810, 4401 North Fairfax Drive, Arlington, Virginia 22203-1622, and will be available for public inspection during regular business hours, Monday through Friday.

Dated: February 14, 2001.
Cathleen I. Short,
Co-Chair, Acquatic Nuisance Species Task Force, Assistance Director—Fisheries and Habitat Restoration.

[FR Doc. 01-4359 Filed 2-21-01; 8:45 am]

BILLING CODE 4310-55-M